DEPARTMENT OF TRANSPORTATION

Office of the Secretary

14 CFR Part 255 and Part 399

[Dockets Nos. OST-97-2881, OST-97-3014, OST-98-4775, and OST-99-5888]

RIN 2105-AC65

Computer Reservations System (CRS) Regulations; Statements of General Policy

AGENCY: Office of the Secretary, Department of Transportation.

ACTION: Notice extending comment period.

SUMMARY: The Department has issued a notice of proposed rulemaking that proposes to readopt and amend its existing rules governing airline computer reservations systems (CRSs) and to clarify the requirements of its Statements of General Policy on travel agency disclosure of any agency service fees.

DATES: The Department is now extending the due date for comments and reply comments on this notice of proposed rulemaking to March 16, 2003, and May 15, 2003, from the original dates of January 14 and February 13, 2003.

ADDRESSES: To make sure your comments and related material are not entered more than once in the docket, please submit them (marked with docket numbers OST-97-2881, OST-97-3014, OST-98-4775 and OST-99-5888) by only one of the following means:

(1) By mail to the Docket Management Facility, U.S. Department of Transportation, room PL-401, 400 Seventh Street SW., Washington, DC 20590-0001.

(2) By hand delivery to room PL-401 on the Plaza level of the Nassif Building, 400 Seventh Street SW., Washington, DC, between 9 a.m. and 5 p.m., Monday through Friday, except Federal holidays. The telephone number is 202-366-9329.

(3) Electronically through the Web Site for the Docket Management System at http://dms.dot.gov. Comments must be filed in Dockets OST-97-2881, OST-97-3014, and OST-98-4775 and OST-99-5888, U.S. Department of Transportation, 400 7th St. SW., Washington, DC 20590. Late filed comments will be considered to the extent possible.

Due to security procedures in effect since October 2001 on mail deliveries, mail received through the Postal Service may be subject to delays. Commenters should consider using an express mail firm to ensure the timely filing of any comments not submitted electronically or by hand.

FOR FURTHER INFORMATION CONTACT: Thomas Ray, Office of the General Counsel, 400 Seventh St. SW., Washington, DC 20590, (202) 366-4731.

SUPPLEMENTARY INFORMATION: The Department has begun a rulemaking to reexamine whether it should maintain its existing rules governing CRS operations. Our rules have a sunset date, currently March 31, 2003, to ensure that we would reexamine the need for the rules and their effectiveness. 67 FR 14846 (March 28, 2002). We issued a notice of proposed rulemaking that set forth our tentative conclusions on whether the rules should be readopted, whether we should extend the rules to cover the sale of airline tickets through the Internet, and whether we should clarify our full-fare advertising policy insofar as it concerns the disclosure of travel agency service fees. 67 FR 69366 (November 15, 2002). Comments and reply comments were due sixty days and ninety days, respectively, after the notice's publication.

Nineteen of the parties have filed a petition to extend these comment periods and to extend the rules' existing sunset date. These petitioners, Amadeus, Galileo, Sabre, Interactive Travel Services Association, American Society of Travel Agents, National Business Travel Association, National Consumers League, Navigant International, Rosenbluth International, Tzell Travel, Maritz TQ3, Colwick Travel, Protravel International, Austin Travel, Corporate Travel Planners, Altour International, World Travel BTI, Compass Travel, and Sea Gate Travel Group, ask that we provide an additional sixty days for comments and an additional thirty days for reply comments. They also ask that we extend the rules' sunset date to September 30, 2003. They request us to grant their petition by December 3 so that they may better plan the preparation of their comments.

In support of their request for more time, the petitioners note that our notice of proposed rulemaking is very long and requests the parties to address a large number of issues. They contend that the comment periods provided by the notice of proposed rulemaking will not enable them to prepare meaningful comments on the issues. They point out that the initial comment period includes the Thanksgiving, Christmas, and New Year's Day holidays. And they allege that our proposals, if adopted, would require the systems, airlines, and many travel agencies to make significant changes in their operations.

We have determined that it would be reasonable to give commenters more time for preparing their responses to the advance notice. The issues are complex, and our notice of proposed rulemaking is lengthy. As the petitioners point out, the comment period includes three major holidays. Extending the comment period should help us, by enabling the parties to prepare comments that thoroughly analyze the issues raised by our notice of proposed rulemaking. We will therefore give commenters an additional sixty days for the comments and thirty days for reply comments. These extensions should give them adequate time for preparing responses to our notice and the comments filed by other parties without unduly delaying the completion of this rulemaking. These comment periods will be comparable to those established by us in our last major reexamination of the rules. 56 FR 12586 (March 26, 1991). As a result, we are making the comments due on March 16 instead of January 14, 2003, and the reply comments due on May 15 instead of February 13.

We recognize that Continental, Orbitz, and Northwest have filed oppositions to the request for an extension that argue that we should not delay our decision on new rules, since the current rules allegedly restrict competition. We appreciate the need to proceed without undue delay, but we think the public interest will be best served by ensuring that the commenters have an opportunity to thoroughly address and analyze the issues.

We are not now prepared to propose another extension of the rules' sunset date. We will consider that issue early next year and see no reason to act on that matter at this time.

Issued in Washington, DC on December 2, 2002.
Kirk K. Van Tine,
General Counsel.

[FR Doc. 02-30951 Filed 12-3-02; 4:39 pm]

BILLING CODE 4910-62-P